DEPARTMENT OF HOUSING AND URBAN DEVELOPMENT

[Docket No. FR-5758-N-11]

60 Day Notice of Proposed Information Collection: Revision of Transformation Initiative: Sustainable Construction in Indian Country Small Grant Program

AGENCY: Office of the Assistant Secretary for Policy Development and Research, HUD.

ACTION: Notice.

SUMMARY: The proposed information collection requirement described below will be submitted to the Office of Management and Budget (OMB) for review, as required by the Paperwork Reduction Act. The Department is soliciting public comments on the subject proposal.

DATES: Comment Due Date: October 21, 2014.

ADDRESSES: Interested persons are invited to submit comments regarding this proposal. Comments should refer to the proposal by name and/or OMB Control Number and should be sent to: Collette Pollard, Reports Management Officer, QDAM, Department of Housing and Urban Development, 451 7th Street SW., Room 4176, Washington, DC 20410-5000; telephone 202-402-5564 (this is not a toll-free number) or email at Colette.Pollard@hud.gov for a copy of the proposed forms or other available information. Persons with hearing or speech impairments may access this number through TTY by calling the toll-free Federal Relay Service at (800) 877-8339.

SUPPLEMENTARY INFORMATION: The Department of Housing and Urban Development will submit the proposed extension of information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Proposal: Revision of Transformation Initiative: Sustainable Construction in Indian Country Small Grant Program.

OMB Control Number: 2528-0274.

Description of the Need for the Information and Proposed Use: The information is being collected to monitor performance of grantees to ensure they meet statutory and program goals and requirements.

Agency Form Numbers: SF-424, SF-424 Supplemental, HUD-424-CB, SF-LLL, HUD-2880, HUD-2993, HUD-96010 and HUD-96011.

Members of the Affected Public: Institutions of higher education accredited by a national or regional accrediting agency recognized by the U.S. Department of Education are the official applicants. Estimation of the total number of hours needed to prepare the information collection including number of respondents, frequency of response, and hours of response: Information pursuant to grant award will be submitted quarterly with a final report. The following chart details the respondent burden on a quarterly and annual basis:

| Number of respondents | Total annual responses | Hours per response | Total hours
Quarterly Reports | 4 | 16 | 6 | 96
Final Reports | 4 | 4 | 60 | 240
Recordkeeping | 4 | 4 | 4 | 16
Total | 12 | 24 | 58 | 352

Status of the proposed information collection: Pending OMB approval.

Authority: Section 3506 of the Paperwork Reduction Act of 1995, 44 U.S.C. Chapter 35, as amended.

Dated: August 15, 2014.
Katherine M. O'Regan,
Assistant Secretary for Policy Development and Research.

[FR Doc. 2014-20033 Filed 8-21-14; 8:45 am]

BILLING CODE 4210-67-P